DEPARTMENT OF COMMERCE

Economics and Statistics Administration

Notice of Charter Renewal of Commerce Data Advisory Council (CDAC)

AGENCY: Economics and Statistics Administration (ESA), Department of Commerce.

ACTION: Notice of charter renewal of the Commerce Data Advisory Council (CDAC).

SUMMARY: The Economics and Statistics Administration (ESA) announces the charter renewal of the Commerce Data Advisory Council (CDAC) by the Secretary, Department of Commerce. The renewed charter can be found on the CDAC's Web site at the following link: http://www.esa.gov/cdac/faca-documentation.html.

The CDAC is a Federal Advisory Committee established by the Secretary of Commerce to provide advice and recommendations to the Secretary, DOC, on ways to make Commerce data easier to find, access, use, combine, and disseminate, and on other such matters as the Secretary determines. With the exception of the limitations set out in 41 CFR part 102-3, the Under Secretary for Economic Affairs, on behalf of the Secretary, Department of Commerce, will execute the functions and implement the provisions of the Federal Advisory Committee Act and its implementing regulation.

The Charter will be effective for two years from the date it is filed.

FOR FURTHER INFORMATION CONTACT: Burton Reist, Designated Federal Officer of the CDAC, Director of External Affairs, Economics and Statistics Administration, Department of Commerce, at (202) 482-3331 or email BReist@doc.gov, also at 1401 Constitution Avenue NW., Washington, DC 20230.

SUPPLEMENTARY INFORMATION: This notice is provided in accordance with the Federal Advisory Committee Act (Pub. L. 92-463, 5 U.S.C. App. 2). As noted above, the CDAC is a Federal Advisory Committee established to provide advice and recommendations to the Secretary, DOC, on ways to make Commerce data easier to find, access, use, combine, and disseminate, and on other such matters as the Secretary determines.

Dated: December 19, 2016.
Burton Reist,
Director of External Affairs, Economics & Statistics Administration.

[FR Doc. 2016-31224 Filed 12-23-16; 8:45 am]

BILLING CODE P